SECURITIES AND EXCHANGE COMMISSION

Sunshine Act Meeting

Notice is hereby given, pursuant to the provisions of the Government in the Sunshine Act, Public Law 94-409, that the Securities and Exchange Commission will hold an Open Meeting on June 25, 2008 at 10 a.m., in the Auditorium, Room L-002.

The subject matters of the Open Meeting will be:

1. The Commission will consider whether to propose rule and form amendments with respect to references in various Commission rules and forms to ratings by Nationally Recognized Statistical Rating Organizations (NRSROs).

2. The Commission will consider whether to issue guidance and an amendment to its rules relating to Organization and Program Management concerning proposed rule changes filed by self-regulatory organizations pursuant to Section 19(b) of the Securities Exchange Act of 1934 and processed by the Division of Trading and Markets.

3. The Commission will consider whether to propose amendments to Exchange Act Rule 15a-6 relating to broker-dealer registration for foreign brokers or dealers engaged in certain U.S. activities.

4. The Commission will consider whether to propose amendments that would define terms related to annuity contracts under the Securities Act of 1933, and whether to propose amendments related to periodic reporting requirements under the Securities Exchange Act of 1934.

At times, changes in Commission priorities require alterations in the scheduling of meeting items.

For further information and to ascertain what, if any, matters have been added, deleted or postponed, please contact:

The Office of the Secretary at (202) 551-5400.

Dated: June 18, 2008.
Florence E. Harmon,
Acting Secretary.

[FR Doc. E8-14166 Filed 6-20-08; 8:45 am]

BILLING CODE 8010-01-P